DEPARTMENT OF HEALTH AND HUMAN SERVICES

Office of the Secretary

Fleet Alternative Fuel Vehicle Acquisition and Compliance Report

AGENCY: Department of Health and Human Services (HHS).

ACTION: Notice of availability.

SUMMARY: Pursuant to 42 United States Code 13218(b), the Department of Health and Human Services gives notice that the Department's FY 2004 Fleet Alternative Fuel Vehicle Acquisition and Compliance Report is available on-line at http://www.knownet.hhs.gov/log/AgencyPolicy/HHSLogPolicy/afvcompliance.htm

FOR FURTHER INFORMATION CONTACT: Jim Kerr at (202) 720-1904, or via e-mail at jim.kerr@hhs.gov.

Dated: May 24, 2005.
Evelyn M. White,
Acting Assistant Secretary for Administration and Management.

[FR Doc. 05-11075 Filed 6-2-05; 8:45 am]

BILLING CODE 4161-17-P